OFFICE OF PERSONNEL MANAGEMENT

Excepted Service

AGENCY: Office of Personnel Management.

ACTION: Notice.

SUMMARY: This gives notice of positions placed or revoked under Schedule C in the excepted service, as required by Civil Service Rule VI, Exceptions from the Competitive Service.

FOR FURTHER INFORMATION CONTACT: Pam Shivery, Director, Washington Service Center, Employment Service (202) 606-1015.

SUPPLEMENTARY INFORMATION: The Office of Personnel Management published its last monthly notice updating appointing authorities established under the Excepted Service provisions of 5 CFR part 213 on April 11, 2001, (66 FR 18824). Individual authorities established under Schedule C during March, April and May 2001, appear in the listing below. There were no Schedule C approvals for February 2001. Future notices will be published on the fourth Tuesday of each month, or as soon as possible thereafter. A consolidated listing of all authorities as of June 30 will also be published.

Schedule C

The following Schedule C authorities were established during March, April and May 2001:

Department of Agriculture

Special Assistant to the Under Secretary for Farm and Foreign Agricultural Service. Effective May 22, 2001.

Special Assistant to the Under Secretary for Natural Resources and Environment. Effective May 22, 2001.

Confidential Assistant to the Under Secretary for Food, Nutrition and Consumer Services. Effective May 30, 2001.

Confidential Assistant to the Assistant Secretary for Congressional Relations. Effective May 30, 2001.

Confidential Assistant to the Under Secretary for Research, Education and Economics. Effective May 30, 2001.

Commission on Civil Rights

Special Assistant to the Commissioner. Effective March 31, 2001.

Department of Commerce

Legislative Specialist for National Oceanic and Atmospheric

Administration and Environment to the Assistant Secretary for Legislative and Intergovernmental Affairs. Effective April 30, 2001.

Intergovernmental Affairs Specialist to the Deputy Assistant Secretary for Intergovernmental Affairs. Effective May 2, 2001.

Legislative Specialist for Technology and Telecommunications to the Assistant Secretary for Legislative and Intergovernmental Affairs. Effective May 2, 2001.

Director, Office of External Affairs to the Secretary of Commerce. Effective May 2, 2001.

Press Secretary to the Director of Public Affairs. Effective May 3, 2001.

Special Assistant to the Assistant Secretary of Commerce, Director General of the U.S. and Foreign Commercial Service. Effective May 8, 2001.

Special Assistant to the Director, Office of White House Liaison. Effective May 9, 2001.

Deputy Director to the Director, Office of Public Affairs. Effective May 9, 2001.

Department of Education

Confidential Assistant to the Chief of Staff. Effective May 21, 2001.

Special Assistant to the Assistant Secretary for Intergovernmental and Interagency Affairs. Effective May 21, 2001.

Confidential Assistant to the Chief of Staff. Effective May 21, 2001.

Confidential Assistant to the Chief of Staff. Effective May 22, 2001.

Confidential Assistant to the Director, Office of Public Affairs. Effective May 24, 2001.

Confidential Assistant to the Director, Scheduling and Briefing Staff. Effective May 24, 2001.

Steward to the Chief of Staff. Effective May 24, 2001.

Special Assistant (White House Liaison) to the Chief of Staff. Effective May 24, 2001.

Department of Energy

Special Assistant to the Secretary of Energy. Effective May 8, 2001.

Staff Assistant to the Director, Office of Scheduling and Advance. Effective May 8, 2001.

Special Assistant to the Assistant Secretary for Congressional and Intergovernmental Affairs. Effective May 8, 2001.

Special Assistant to the Director, Civilian Radioactive Waste Management. Effective May 8, 2001.

Special Assistant to the Director, Office of Public Affairs. Effective May 8, 2001.

Special Assistant to the Director, Office of Scheduling and Advance. Effective May 8, 2001.

Special Assistant to the General Counsel. Effective May 8, 2001.

Special Assistant to the Deputy Assistant Secretary for Intergovernmental and External Affairs. Effective May 8, 2001.

Special Assistant to the Director, Office of Public Affairs. Effective May 8, 2001.

Special Assistant to the Assistant Secretary, Office of Congressional and Intergovernmental Affairs. Effective May 9, 2001.

Special Assistant to the Assistant Secretary for Congressional and Intergovernmental Affairs. Effective May 9, 2001.

Special Advisor to the Chief of Staff. Effective May 29, 2001. Special Assistant to the Administrator, Energy Information Administration. Effective May 29, 2001.

Deputy Director to the Director, Office of Public Affairs. Effective May 29, 2001.

Special Assistant to the Director, Office of Scheduling and Advance. Effective May 30, 2001.

Department of Health and Human Services

Special Assistant to the Secretary of Health and Human Services. Effective May 22, 2001.

Special Outreach Coordinator to the Deputy Assistant Secretary for Public Affairs (Policy and Strategy). Effective May 30, 2001.

Department of Housing and Urban Development

Staff Assistant to the Assistant Secretary for Public Affairs. Effective May 22, 2001.

Deputy Chief of Staff for Operations and Intergovernmental Relations to the Chief of Staff. Effective May 22, 2001.

Deputy Chief of Staff for Policy and Programs to the Chief of Staff. Effective May 22, 2001.

Staff Assistant to the Assistant Secretary for Administration. Effective May 22, 2001.

Special Assistant to the Deputy Assistant Secretary for Congressional and Intergovernmental Relations. Effective May 24, 2001.

Department of the Interior

White House Liaison to the Deputy Chief of Staff. Effective April 11, 2001.

Special Executive Assistant to the Secretary of the Interior. Effective May 17, 2001.

Director of Scheduling and Advance to the Deputy Chief of Staff. Effective May 17, 2001.

Department of Justice

Counsel to the Assistant Attorney General, Office of Policy Development. Effective May 18, 2001.

Special Assistant to the Deputy Attorney General. Effective May 29, 2001.

Attorney Advisor to the Assistant Attorney General, Civil Division. Effective May 29, 2001.

Confidential Assistant to the Attorney General. Effective May 30, 2001.

Department of Labor

Director of Communications to the Assistant Secretary for Public Affairs. Effective April 18, 2001.

White House Liaison to the Secretary of Labor. Effective May 8, 2001.

Staff Assistant to the Chief of Staff. Effective May 9, 2001.

Staff Assistant to the Assistant Secretary, Office of Congressional and Intergovernmental Affairs. Effective May 18, 2001.

Staff Assistant to the Executive Secretary. Effective May 30, 2001.

Department of the Navy (DOD)

Special Assistant to the Secretary of the Navy. Effective April 23, 2001.

National Credit Union Administration

Special Assistant for Public Affairs to the Chairman, National Credit Union Administration. Effective April 23, 2001.

Department of Transportation

Congressional Liaison Officer to the Director, Office of Congressional Affairs. Effective May 30, 2001.

Special Assistant for Scheduling and Advance to the Secretary of Transportation. Effective May 30, 2001.

Special Assistant to the Secretary of Transportation. Effective May 30, 2001.

Congressional Liaison Officer to the Director, Office of Congressional Affairs. Effective May 30, 2001.

Department of the Treasury

Deputy Assistant Secretary (Public Liaison) to the Assistant Secretary (Public Affairs). Effective April 18, 2001.

Deputy Director to the Director of Scheduling. Effective April 27, 2001.

Special Assistant to the Assistant Secretary for Public Affairs. Effective May 8, 2001.

Deputy to the Assistant Secretary, Legislative Affairs. Effective May 9, 2001.

Special Assistant to the Director of Scheduling. Effective May 18, 2001.

Environmental Protection Agency

Special Assistant to the Associate Administrator for Congressional and Intergovernmental Relations. Effective May 21, 2001.

Special Assistant to the Administrator. Effective May 22, 2001.

Special Assistant to the Administrator. Effective May 22, 2001.

Special Assistant to the Associate Administrator for Communications, Education and Media Relations. Effective May 22, 2001.

Director, Office of Communications to the Associate Administrator for Communications, Education and Media Relations. Effective May 24, 2001.

Federal Communications Commission

Chief, Consumer Information Bureau to the Chairman, Federal Communications Commission. Effective May 9, 2001.

Office of the United States Trade Representative

Special Assistant to the United States Trade Representative. Effective April 18, 2001.

Confidential Assistant to the United States Trade Representative. Effective May 30, 2001.

Deputy Assistant United States Trade Representative for Congressional Affairs to the Assistant United States Trade Representative. Effective May 30, 2001.

United States Tax Court

Trial Clerk to a Judge. Effective April 3, 2001.

Secretary (Confidential Assistant) to a Judge. Effective April 4, 2001.

Trial Clerk to a Judge. Effective March 12, 2001.

Official Residence of the Vice President

Residence Manager and Social Secretary to the Assistant to the Vice President and Chief of Staff to Mrs. Cheney. Effective May 17, 2001.

Authority: 5 U.S.C. 3301 and 3302; E.O. 10577, 3 CFR 1954-1958 Comp., P.218.

Office of Personnel Management.
Steven R. Cohen,
Acting Director.

[FR Doc. 01-16577 Filed 6-29-01; 8:45 am]

BILLING CODE 6325-01-P